DEPARTMENT OF THE INTERIOR

Bureau of Indian Affairs

Indian Gaming

AGENCY: Bureau of Indian Affairs, Interior.

ACTION: Notice of Tribal—State Class III Gaming Compact taking effect.

SUMMARY: Notice is given that the Tribal-State Compact for Regulation of Class III Gaming between the Confederated Tribes of the Warm Springs Reservation of Oregon and the State of Oregon is considered to have been approved and is in effect.

DATES: Effective Date: March 1, 2011.

FOR FURTHER INFORMATION CONTACT: Paula L. Hart, Director, Office of Indian Gaming, Office of the Deputy Assistant Secretary—Policy and Economic Development, Washington, DC 20240, (202) 219-4066.

SUPPLEMENTARY INFORMATION: Under Section 11 of the Indian Gaming Regulatory Act of 1988 (IGRA) Public Law 100-497, 25 U.S.C. 2710, the Secretary of the Interior shall publish in the Federal Register notice of any compact that is approved, or considered to have been approved, for the purpose of engaging in Class III gaming activities on Indian lands. The compact authorizes up to 2,000 video lottery terminals, up to 70 table games, and establishes the Oregon Benefit Fund to receive payments from the Confederated Tribes of the Warm Springs Reservation based upon certain percentages of net win. The gaming facility authorized by this Compact shall be located on certain lands in Cascade Locks, Oregon, but only if all of the following occur: (1) The Cascade Locks lands are acquired in trust by the Secretary for the tribe; and (2) the Secretary issues a favorable “two-part determination,” under Section 20 of IGRA, 25 U.S.C. 2719(b)(1)(A), finding that gaming on the Cascade Locks lands is in the best interest of the tribe and not detrimental to the surrounding community; and (3) the Governor of the State of Oregon concurs with the Secretary's two-part determination within 180 days of receiving the Secretary's request for his concurrence. See 25 CFR 292.23. The Assistant Secretary—Indian Affairs, Department of the Interior, through his delegated authority, did not approve or disapprove the compact within 45 days after the date the compact was received. Therefore, pursuant to 25 U.S.C. 2710(d)(7)(C), the compact is considered to have been approved, but only to the extent it is consistent with IGRA.

Dated: February 17, 2011.
Donald Laverdure,
Principal Deputy Assistant Secretary—Indian Affairs.

[FR Doc. 2011-4522 Filed 2-28-11; 8:45 am]

BILLING CODE 4310-4N-P